COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from the Procurement List.

SUMMARY: The Committee is proposing to add to the Procurement List service(s) to be furnished by nonprofit agencies employing persons who are blind or have other severe disabilities, and to delete product(s) previously furnished by such agencies.

COMMENTS MUST BE RECEIVED ON OR BEFORE: August 17, 2008.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Kimberly M. Zeich, Telephone: (703) 603-7740, Fax: (703) 603-0655, or e-mail CMTEFedReg@AbilityOne.gov.

SUPPLEMENTARY INFORMATION: This notice is published pursuant to 41 U.S.C. 47(a)(2) and 41 CFR 51-2.3. Its purpose is to provide interested persons an opportunity to submit comments on the proposed actions.

Addition

If the Committee approves the proposed additions, the entities of the Federal Government identified in this notice for each product or service will be required to procure the service(s) listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the service(s) to the Government.

2. If approved, the action will result in authorizing small entities to furnish the service(s) to the Government.

3. There are no known regulatory alternatives which would accomplish the objectives of the Javits-Wagner-O'Day Act (41 U.S.C. 46-48c) in connection with the service(s) proposed for addition to the Procurement List.

Comments on this certification are invited. Commenters should identify the statement(s) underlying the certification on which they are providing additional information.

End of Certification

The following service(s) are proposed for addition to Procurement List for production by the nonprofit agencies listed:

Services

Service Type/Location: Mailroom Operations, Customs and Border Protection Laguna Niguel Facilities, 24000 Avila Road, Laguna Niguel, CA.

NPA: Landmark Services, Inc., Santa Ana, CA.

Contracting Activity: National Acquisition Center, Bureau of Customs and Border Protection, Department of Homeland Security.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the product(s) to the Government.

3. There are no known regulatory alternatives which would accomplish the objectives of the Javits-Wagner-O'Day Act (41 U.S.C. 46-48c) in connection with the product(s) proposed for deletion from the Procurement List.

End of Certification

The following product(s) are proposed for deletion from the Procurement List:

Products

Transparency Film, Xerographic

NSN: 7530-01-386-2376—Clear w/Strip.

NPA: Industries for the Blind, Inc., Greensboro, NC.

Contracting Activity: General Services Administration, Office Supplies & Paper Products, Acquisition Ctr, New York City, NY.

Brake Pad Assembly

NSN: 2530-01-255-4215.

NPA: Arizona Industries for the Blind, Phoenix, AZ.

Contracting Activity: U.S. Army Tank-Automotive and Armaments Command, Rock Island, IL.

Tracheotomy Care Kit

NSN: 6515-01-174-8844.

NPA: Washington-Greene County Branch, PAB, Washington, PA.

Contracting Activity: Department of Veterans Affairs, National Acquisition Center, Hines, IL.

Belt, Aircraft Safety

NSN: 1680-00-163-1570.

NPA: Arizona Industries for the Blind, Phoenix, AZ.

Contracting Activity: Defense Supply Center Richmond, Richmond, VA.

BioRenewable Cleaners

NSN: 4510-00-NIB-0014—Waterless Hand Cleaner Dispenser.

NSN: 8520-00-NIB-0094—BioRenewables Waterless Plus Hand Cleaner Refill.

NSN: 8520-00-NIB-0095—BioRenewables Waterless Hand Cleaner Intro.

NSN: 8520-00-NIB-0096—BioRenewables Waterless Hand Cleaner Refill.

NSN: 8520-00-NIB-0097—BioRenewables Waterless Plus Hand Cleaner Intro.

NPA: Susquehanna Association for the Blind and Visually Impaired, Lancaster, PA.

Contracting Activity: General Services Administration, Southwest Supply Center, Fort Worth, TX.

Kimberly M. Zeich,
Director, Program Operations.

[FR Doc. E8-16490 Filed 7-17-08; 8:45 am]

BILLING CODE 6353-01-P